NATIONAL SCIENCE FOUNDATION

STEM Education Advisory Panel; Notice of Meeting

In accordance with the Federal Advisory Committee Act (Pub. L. 92-463, as amended), the National Science Foundation (NSF) announces the following meeting:

Name and Committee Code: STEM Education Advisory Panel (#2624).

Date and Time: November 7, 2018; 2:00 p.m.-3:00 p.m.

Place: National Science Foundation, 2415 Eisenhower Avenue, Alexandria, VA 22314.

Type of Meeting: Closed.

Contact Person: Keaven Stevenson, Directorate Administrative Coordinator, Room C 11044, National Science Foundation, 2415 Eisenhower Avenue, Alexandria, VA 22314; Contact Information: 703-292-8663/kstevens@nsf.gov.

Purpose of Meeting: To share and collect information in support of members' role in advising the Committee on Science, Technology, Engineering, and Mathematics Education (CoSTEM).

Agenda: Update and discussion on an internal government draft report.

Reason for Closing: The panel will review and discuss a draft government report. This discussion must be kept confidential. These matters are exempt under 5 U.S.C. 552b(c), (9)(B) of the Government in the Sunshine Act.

Dated: October 22, 2018.
Crystal Robinson,
Committee Management Officer.

[FR Doc. 2018-23299 Filed 10-24-18; 8:45 am]

BILLING CODE 7555-01-P